FEDERAL COMMUNICATIONS COMMISSION

47 CFR Part 73

[DA 05-764, MB Docket No. 02-266, RM-10557]

Radio Broadcasting Services; Chillicothe, Dublin, Hillsboro, and Marion, OH

AGENCY: Federal Communications Commission.

ACTION: Final rule.

SUMMARY: This document grants a rulemaking petition to reallot, downgrade, and change the community of license for Station WMRN-FM from Channel 295B at Marion, OH, to Channel 294B1 at Dublin, OH, as a first local service. To accommodate this action, the document also reallots, downgrades, and changes the community of license for Station WSRW-FM from Channel 294B at Hillsboro, OH, to Channel 293A at Chillicothe, OH. Finally, the document denies objections raised by Infinity Broadcasting Operations, the Committee for Competitive Columbus Radio, and Sandyworld, Inc. See 67 F.R. 57780, September 12, 2002. See also SUPPLEMENTARY INFORMATION.

DATES: Effective May 9, 2005.

FOR FURTHER INFORMATION CONTACT: Andrew J. Rhodes, Media Bureau, (202) 418-2180.

SUPPLEMENTARY INFORMATION: This is a synopsis of the Commission's Report and Order, MB Docket 02-266, adopted March 23, 2005, and released March 25, 2005. The full text of this decision is available for inspection and copying during normal business hours in the FCC's Reference Information Center at Portals II, CY-A257, 445 12th Street, SW., Washington, DC. The complete text of this decision may also be purchased from the Commission's duplicating contractor, Best Copy and Printing, Inc., 445 12th Street, SW., Room CY-B402, Washington, DC 20554, telephone 1-800-378-3160 or http://www.BCPIWEB.com. The Commission will send a copy of the Report and Order in this proceeding in a report to be sent to Congress and the Government Accountability Office pursuant to the Congressional Review Act, see 5 U.S.C. 801(a)(1)(A).

The reference coordinates for Channel 294B1 at Dublin, OH are 40-09-20 and 82-54-12. The reference coordinates for Channel 293A at Chillicothe, OH are 39-17-31 and 82-51-38.

List of Subjects in 47 CFR Part 73

Radio, Radio broadcasting.

Part 73 of Title 47 of the Code of Federal Regulations is amended as follows:

PART 73-RADIO BROADCAST SERVICES

1. The authority citation for part 73 continues to read as follows:

Authority: 47 U.S.C. 154, 303, 334 and 336.

§ 73.202 [Amended]

2. Section 73.202(b), the Table of FM Allotments under Ohio, is amended by adding Channel 293A at Chillicothe, adding Dublin, Channel 294B1, removing Channel 294B at Hillsboro, and removing Channel 295B at Marion.

Federal Communications Commission.
John A. Karousos,
Assistant Chief, Audio Division, Media Bureau.

[FR Doc. 05-7071 Filed 4-12-05; 8:45 am]

BILLING CODE 6712-01-P